DEPARTMENT OF HEALTH AND HUMAN SERVICES

Administration on Aging

[Program Announcement No. AoA-03-04]

Fiscal Year 2003 Program Announcement; Availability of Funds and Notice Regarding Applications

AGENCY: Administration on Aging, HHS.

ACTION: Announcement of availability of funds and request for applications.

SUMMARY: The Administration on Aging (AoA) announces that under this program announcement it will hold a competition for one award to support a National Consumer Protection Technical Resource Center at a federal share of approximately $450,000 per year for a project period of three years.

Legislative authority: The Health Insurance Portability and Accountability Act of 1996, the Older Americans Act, Public Law 106-501 (Catalog of Federal Domestic Assistance 93.048, Title IV and Title II Discretionary Projects).

Purpose of grant award: The purpose of this award is to establish one National Consumer Protection Technical Resource Center to provide advice, guidance and technical assistance to AoA's Senior Medicare Patrol (SMP) projects. These projects test the best ways of using the skills of retired nurses, doctors, accountants and other professionals to train seniors as expert resources to curb health care error, fraud, and abuse.

The award is a cooperative agreement because the Administration on Aging will be substantially involved in the development and execution of the activities of the grantee.

The applicant and AoA will negotiate a work plan which details activities necessary to implement advice, guidance and technical assistance to SMP projects. The applicant will develop strategies with AoA to replicate nationwide best practices of the SMP program. The AoA will plan national and regional conferences, forums and meetings to provide program information, training, and education. The applicant will participate in these events to report on the activities of the center.

The AoA will provide a contact person for the center's project director/staff to receive SMP grantee information and orientation on the resources available “in house” for start up activities. AOA will also conduct conference calls to identify priorities or as a tool for planning upcoming events. The grantee will be required to report semiannually on the progress of this project. Based on the review of the report, AoA will negotiate any modifications needed to the cooperative agreement. At the end of each budget period, the AoA will review the project's performance and determine at the time if future funding is justified.

Eligibility for grant awards and other requirements: Public and non-profit agencies, organizations, institutions, and federally recognized tribes are eligible to apply under this program announcement. Faith-based organizations are eligible to apply. To be considered for funding, however, the applicant must be experienced in providing advice, guidance and technical assistance to Medicare fraud educational/outreach efforts.

Executive Order 12372 is not applicable to this grant application.

Grantees must cover at least 25% of the project's total cost with non-federal cash or in-kind resources. Grantees must contribute at least one (1) dollar in non-federal cash or in-kind resources for every three (3) dollars received in federal funding.

Screening criteria: All applications will be screened to assure a level playing field for all applicants. Applications that fail to meet the screening criteria described below will not be reviewed and will not receive further consideration.

1. Applications must be postmarked by midnight, June 30, 2003, or hand-delivered by 5:30 p.m. Eastern Time, on June 30, 2003, or submitted electronically by midnight, June 30, 2003.

2. Electronic submissions must be sent to: http://www.aoa.gov/egrants. Note: For electronic submissions, the required signature form must be postmarked by midnight, June 30, 2003, or hand-delivered by 5:30 p.m., Eastern Time, on June 30, 2003.

3. The Project Narrative section of the application must not exceed 20 pages. Page fifteen of the application kit details the components of the application not included in this limitation.

Review of Applications: Applications will be evaluated against the following criteria: Purpose and Need for Assistance. (20 Points), Approach, Work Plan and Activities. (30 Points), Project Outcomes, Evaluation and Dissemination. (30 Points); and Level of Effort (20 points).

DATES: The deadline date for the submission of applications is June 30, 2003.

ADDRESSES: Application kits are available by writing to the U.S. Department of Health and Human Services, Administration on Aging, Office of Consumer Choice and Protection, Washington, DC 20201, by calling (202) 357-3532, or online at http://www.aoa.gov/egrants.

Applications may be mailed to the U.S. Department of Health and Human Services, Administration on Aging, Office of Grants Management, Washington, DC 20201, attn: Margaret Tolson (AoA-03-04).

Applications may be delivered to the U.S. Department of Health and Human Services, Administration on Aging, Office of Grants Management, One Massachusetts Avenue, NW., Room 4604, Washington, DC 20201, attn: Margaret Tolson (AoA-03-04).

If you elect to mail or hand deliver your application you must submit one original and two copies of the application; an acknowledgement card will be mailed to all applicants.

SUPPLEMENTARY INFORMATION: All grant applicants are encouraged to obtain a D-U-N-S number from Dun and Bradstreet. It is a nine-digit identification number, which provides unique identifiers of single business entities. The D-U-N-S number is free and easy to obtain from http://www.dnb.com/US/duns_update/.

FOR FURTHER INFORMATION CONTACT: U.S. Department of Health and Human Services, Administration on Aging, Office of Consumer Choice and Protection, Washington, DC 20201, telephone: (202) 357-3532.

Dated: May 12, 2003.
Josefina G. Carbonell,
Assistant Secretary for Aging.

[FR Doc. 03-12133 Filed 5-14-03; 8:45 am]

BILLING CODE 4154-01-P